DEPARTMENT OF ENERGY

Federal Energy Regulatory Commission

[Docket No. RP04-24-001]

Algonquin Gas Transmission Company; Notice of Tariff Filing

December 2, 2003.

Take notice that on November 26, 2003, Algonquin Gas Transmission Company (Algonquin) tendered for filing as part of its FERC Gas Tariff, Fourth Revised Volume No. 1, the revised tariff sheets listed in appendix A of the filing, to be effective on October 10, 2003.

Algonquin states that it is making this filing pursuant to an order issued by the Commission in the above referenced docket on November 7, 2003, 105 FERC § 61,180. The November 7, 2003 Order accepted the tariff sheets listed in the Appendix to that order subject to Algonquin submitting within 20 days, tariff sheets reflecting revised rates for service pursuant to Rate Schedules AFT-1(X-38) and AFT-CL(X-37), as well as new interruptible rates, rate schedules and a pro forma service agreement for service to the Manchester Street and Brayton Point facilities on an interruptible basis. Algonquin contends that the November 26 filing includes revised rates for AFT-1(X-38) and AFT-CL(X-37) service, and new Rate Schedule AIT-2 rates, as well as corresponding statements, schedules, and work papers that support theses rates.

Algonquin states that pursuant to the Commission's Notice of Extension of Time, issued November 21, 2003, in the above referenced docket, it will file the required Statement P testimony to supplement the data filed in this application on or before December 12, 2003. The comment period for this case filed on November 26, 2003 expires December 8, 2003 (See 18 CFR 154.210). However, since Algonquin was granted an extension of time to complete its application, filing the required Statement P testimony on or before December 12, interveners will then have seven days from the Statement P filing, until December 19, 2003, in which to supplement their interventions based upon the Statement P testimony which completes Algonquin's application.

Algonquin states that copies of its filing have been mailed to all affected customers and interested state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “e-library”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-filing” link.

Magalie R. Salas,
Secretary.

[FR Doc. E3-00466 Filed 12-5-03; 8:45 am]

BILLING CODE 6717-01-P